DEPARTMENT OF THE INTERIOR

National Park Service

Concession Contracts and Permits: Expiring Contracts; Extension for Up to One Year

AGENCY: National Park Service, Interior.

ACTION: Public notice.

SUMMARY: Pursuant to 36 CFR 51.23, public notice is here by given that the National Park Service proposes to extend the following expiring concession contracts until December 31, 2003, or until such time as a new contract is awarded, whichever occurs sooner.

SUPPLEMENTARY INFORMATION: All of the listed concession authorizations will expire by their terms on or before December 31, 2002. The National Park Service has determined that the proposed short-term extensions are necessary in order to avoid interruption of visitor services and has taken all reasonable and appropriate steps to consider alternatives to avoid such interruption. These extensions will allow the National Park Service to develop prospectuses leading to the competitive selection of concessioners for new long-term concession contracts covering these operations.

Concessioner ID No. | Concessioner name | Park
CABR001 | Cabrillo National Monument Foundation | Cabrillo National Monument
CHIS002 | Channel Islands Aviation, In | Channel Islands National Park
CHIS003 | Truth Aquatics, Inc | Channel Islands National Park
CRMO001 | Craters of the Moon Natural History Association | Craters of the Moon National Monument
GOGA007 | Golden Gate National Park Association | Golden Gate NRA
NAVO002 | Hawaii Natural History Association | Hawaii Volcanoes National Park
KALA001 | Molokai Mule Ride, Inc | Kalaupapa National Historical Park
LABE001 | Lava Beds Natural History Association | Lava Beds National Monument
LACH002 | The House That Jack Built | North Cascades National Park
LACH004 | McGregor Mountain Outdoor Supply | North Cascades National Park
MORA001 | Rainier Mountaineering, Inc | Mount Rainier
OLYM047 | Allen Rancourt | Olympic National Park
OLYM064 | Edward Rutherford | Olympic National Park
OLYM006 | Hurricane Ridge Winter Sports Club | Olympic National Park
PWRO001 | SW Parks and Monuments Association | Pacific West Regional Office
ROLA003 | Ross Lake Resort, Inc | Ross Lake NRA
SEKI001 | Timothy B. and Patty Lovern | Sequoia-Kings Canyon National Parks
SEKI005 | Mineral King Pack Station | Sequoia-Kings Canyon National Parks
USAR002 | Arizona Memorial Museum Association | USS Arizona Memorial
WHIS001 | Oak Bottom Marina | Whiskeytown-Shasta-Trinity NRA

EFFECTIVE DATE: January 2, 2003.

FOR FURTHER INFORMATION CONTACT: Cynthia Orlando, Concession Program Manager, National Park Service, 1849 C Street, NW., (2410), Washington, DC, 20240, Telephone 202/513-7144.

Dated: November 26, 2002.
Richard M. Cripe,
Associate Director, Administration, Workforce Development and Business Practices.

[FR Doc. 02-32164 Filed 12-20-02; 8:45 am]

BILLING CODE 4310-70-M